DEPARTMENT OF ENERGY

Federal Energy Regulatory Commission

[Docket No. AD06-8-000]

Discussions With Utility and Railroad Representatives on Market and Reliability Matters; Notice on Filing Comments

June 30, 2006.

On June 15, 2006, the Federal Energy Regulatory Commission (FERC) met with utility and railroad representatives to discuss railroad coal-delivery matters and their impact on markets and electric reliability.

Additional comments in this docket will be accepted until July 17, 2006.

Magalie R. Salas,
Secretary.

[FR Doc. E6-10701 Filed 7-7-06; 8:45 am]

BILLING CODE 6717-01-P